FEDERAL COMMUNICATIONS COMMISSION

47 CFR Part 73

[DA No. 01-740, MM Docket No. 00-238; RM-10008]

Radio Broadcasting Services; Ephraim, WI

AGENCY: Federal Communications Commission.

ACTION: Final rule.

SUMMARY: This document allots Channel 295A to Ephraim, Wisconsin, in response to a petition filed by Carrie L. Riordan. See 65 FR 71292, November 30, 2000. The coordinates for Channel 295A at Ephraim, Wisconsin, are 45-10-12 NL and 87-07-46 WL. Although Canadian concurrence has been requested for the allotment of Channel 295A at Ephraim, notification has not been received. Therefore, operation with the facilities specified for Ephraim herein is subject to modification, suspension, or termination without right to hearing, if found by the Commission to be necessary in order to conform to the 1991 Canada-USA FM Broadcast Agreement or if specifically objected to by Canada. With this action, this proceeding is terminated. A filing window for Channel 295A at Ephraim, Wisconsin, will not be opened at this time. Instead, the issue of opening this allotment for auction will be addressed by the Commission in a subsequent order.

DATES: Effective May 7, 2001.

FOR FURTHER INFORMATION CONTACT: Kathleen Scheuerle, Mass Media Bureau, (202) 418-2180.

SUPPLEMENTARY INFORMATION: This is a summary of the Commission's Report and Order, MM Docket No. 00-238, adopted March 14, 2001, and released March 23, 2001. The full text of this Commission decision is available for inspection and copying during normal business hours in the Commission's Reference Center, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Wisconsin, is amended by adding Ephraim, Channel 295A.

Federal Communications Commission.
John A. Karousos,
Chief, Allocations Branch, Policy and Rules Division, Mass Media Bureau.

[FR Doc. 01-8238 Filed 4-3-01; 8:45 am]

BILLING CODE 6712-01-U